DEPARTMENT OF HOMELAND SECURITY

Federal Emergency Management Agency

[Docket ID FEMA-2022-0002; Internal Agency Docket No. FEMA-B-2204]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 27, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2204, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Carlton County, Minnesota and Incorporated Areas
Project: 17-05-1518S Preliminary Date: May 28, 2021
City of Barnum | City Hall, 3842 Main Street, Barnum, MN 55707.
City of Carlton | Civic Center, 310 Chestnut Avenue, Carlton, MN 55718.
City of Cloquet | City Hall, 101 14th Street, Cloquet, MN 55720.
City of Cromwell | City Office, 1272 Highway 73, Cromwell, MN 55726.
City of Moose Lake | City Hall, 412 4th Street, Moose Lake, MN 55767.
City of Scanlon | Community Center, 2801 Dewey Avenue, Scanlon, MN 55720.
City of Wright | City Office, 1426 3rd Street, Wright, MN 55798.
Fond du Lac Band of Chippewa Tribe | Tribal Administration Building, 1720 Big Lake Road, Cloquet, MN 55720.
Unincorporated Areas of Carlton County | Carlton County Courthouse, 301 Walnut Avenue, Room 103, Carlton, MN 55718.
Chesterfield County, Virginia (All Jurisdictions)
Project: 16-03-2426S Preliminary Date: June 14, 2021
Unincorporated Areas of Chesterfield County | Chesterfield County Community Development Building, 9800 Government Center Parkway, Chesterfield, VA 23832.
Fairfax County, Virginia and Incorporated Areas
Project: 14-03-3327S Preliminary Date: April 30, 2021 and June 30, 2021
Town of Clifton | Town Hall, 12641 Chapel Road, Clifton, VA 20124.
Town of Herndon | Municipal Center, 777 Lynn Street, Herndon, VA 20170.
Town of Vienna | Town Hall, 127 Center Street South, Vienna, VA 22180.
Unincorporated Areas of Fairfax County | Fairfax County Government Center, 12000 Government Center Parkway, Suite 449, Fairfax, VA 22035.
Stafford County, Virginia (All Jurisdictions)
Project: 18-03-0002S Preliminary Date: July 21, 2021
Unincorporated Areas of Stafford County | Stafford County Department of Public Works, Environmental Division, 2126 Jefferson Davis Highway, Suite 203, Stafford, VA 22554.

[FR Doc. 2022-01621 Filed 1-26-22; 8:45 am]

BILLING CODE 9110-12-P